DEPARTMENT OF LABOR

Employment and Training Administration

[TA-W-82,128]

SST Truck Company, LLC, a Navistar, Inc. Company Including On-Site Leased Workers From Employee Solutions, Populus Group, ODW Contract Services, Encore, International Business Machines (IBM), Akzo Nobel, US Security, ASF Logistics, LLC, Briggs Equipment, William Thomas Group, DXP Enterprises, Inc. and Prestige Maintenance, USA, Including Workers Whose Unemployment Insurance (UI) Wages Were Reported Through International Truck and Engine Corporation, Garland, Texas; Amended Certification Regarding Eligibility To Apply for Worker Adjustment Assistance

In accordance with Section 223 of the Trade Act of 1974, as amended (“Act”), 19 U.S.C. 2273, the Department of Labor issued a Certification of Eligibility to Apply for Worker Adjustment Assistance on December 6, 2012, applicable to workers of SST Truck Company, LLC, a Navistar, Inc. company, Garland, Texas, including on-site leased workers from Employee Solutions, Populus Group, and ODW Contract Services. The Department's notice of determination was published in the Federal Register on January 4, 2013 (78 FR 768).

At the request of the state workforce office, the Department reviewed the certification for workers of the subject firm. The workers were engaged in activities related to the production of class 4-8 trucks.

The company reports that workers leased from Encore, International Business Machines (IBM), Akzo Nobel, US Security, ASF Logistics, LLC, Briggs Equipment, William Thomas Group, DXP Enterprises, Inc., and Prestige Maintenance USA were employed on-site at the 4030 Forest Lane, Garland, Texas location of SST Truck Company, LLC, a Navistar, Inc. company. The Department has determined that these workers were sufficiently under the control of the subject firm to be considered leased workers.

In addition, new information shows that some workers separated from employment at SST Truck Company, LLC, a Navistar, Inc. had their wages reported through a separate unemployment insurance (UI) tax account under the name International Truck and Engine Corporation.

Based on these findings, the Department is amending this certification to include workers leased from Encore, International Business Machines (IBM), Akzo Nobel, US Security, ASF Logistics, LLC, Briggs Equipment, William Thomas Group, DXP Enterprises, Inc., and Prestige Maintenance USA working on-site at the 4030 Forest Lane, Garland, Texas location of SST Truck Company, LLC, a Navistar, Inc. company, and workers whose unemployment insurance wages were reported through International Truck and Engine Corporation.

The amended notice applicable to TA-W-82,128 is hereby issued as follows:

“All workers of SST Truck Company, LLC, a Navistar, Inc. company, 4030 Forrest Lane, Garland, Texas, and workers of SST Truck Company, LLC, a Navistar, Inc. company, 4030 Forrest Lane, including on-site leased workers from Employee Solutions, Populus Group, ODW Contract Services, Encore, International Business Machines (IBM), Akzo Nobel, US Security, ASF Logistics, LLC, Briggs Equipment, William Thomas Group, DXP Enterprises, Inc., and Prestige Maintenance USA, and including workers whose unemployment insurance (UI) wages are reported through International Truck and Engine Corporation, Garland, Texas, who became totally or partially separated from employment on or after November 2, 2011 through December 6, 2014, and all workers in the group threatened with total or partial separation from employment on the date of certification through two years from the date of certification, are eligible to apply for adjustment assistance under Chapter 2 of Title II of the Trade Act of 1974, as amended.”

Signed in Washington, DC this 2nd day of July, 2013.
Michael W. Jaffe,
Certifying Officer, Office of Trade Adjustment Assistance.

[FR Doc. 2013-17117 Filed 7-16-13; 8:45 am]

BILLING CODE 4510-FN-P